DEPARTMENT OF TRANSPORTATION

Surface Transportation Board

[STB Finance Docket No. 33998]

Northwestern Pacific Railway Co., LLC—Lease and Operation Exemption—North Coast Railroad Authority, Northwestern Pacific Railroad Authority and Golden Gate Bridge, Highway and Transportation District

Northwestern Pacific Railway Co., LLC (NWPY), a noncarrier, has filed a notice of exemption under 49 CFR 1150.31 pursuant to an operating agreement for NWPY to lease and operate over approximately 317.6 miles of rail line properties of North Coast Railroad Authority (NCRA), Northwestern Pacific Railroad Authority (NWPRA), and Golden Gate Bridge, Highway and Transportation District (GGBHTD). Under the agreement, NWPY will assume all of the rights, duties and obligations of NCRA, including those set out in NCRA's agreements with NWPRA and GGBHTD. The line is located in Humboldt, Trinity, Mendocino, Sonoma, Marin, and Napa Counties, CA, and consists of five segments: (1) The Eureka Segment extending from end of track at NWP milepost 302.86 near Fairhaven, CA, to NWP milepost 142.5 near Outlet Station, CA, a distance of approximately 160.4 miles, the Korblex Branch from NWP milepost 285.2 to NWP milepost 295.2, a distance of approximately 10.0 miles, and the Carlotta Branch from NWP milepost 262.7 to NWP milepost 267.7, a distance of approximately 5.0 miles; ¹ (2) the Willits Segment extending from NWP milepost 142.5 near Outlet Station to NWP milepost 68.22 near Healdsburg, CA, a distance of approximately 74.3 miles; (3) the Healdsburg Segment extending from NWP milepost 68.2 near Healdsburg, CA, to NWP milepost 26.96 near Novato, CA, a distance of approximately 41.2 miles; (4) the Novato Segment extending from NWP milepost 26.96 near Novato to NWP milepost 25.6 near Ignacio, CA, a distance of approximately 1.4 miles; and (5) the Lombard Segment extending from NWP milepost 25.6 near Ignacio to Lombard Station in Napa County, CA, SP milepost 63.4, a distance of approximately 25.3 miles. In addition, NCRA has agreed to grant NWPY all of its surface freight easement rights for a total of 67.9 miles of line (the Healdsburg, Novato, and Lombard Segments described above, which are not owned by NCRA).² NWPY will replace NCRA as operator of the rail lines, and will become a Class III rail carrier. NWPY certifies that its projected revenues will not exceed those that would qualify it as a Class III railroad.

¹ NCRA acquired the authority to operate the line in North Coast Railroad Authority—Acquisition and Operation Exemption-Eureka Southern Railroad, Finance Docket No. 32052 (ICC served Apr. 23, 1992).

² NCRA acquired the authority to operate these lines in North Coast Railroad Authority—Lease and Operation Exemption—California Northern Railroad Company, Northwestern Pacific Railroad Authority, and Golden Gate Bridge, Highway and Transportation District, STB Finance Docket No. 33115 (STB served Sept. 27, 1996).

The earliest the transaction could be consummated was January 16, 2001, the effective date of the exemption (7 days after the exemption was filed).

If the verified notice contains false or misleading information, the exemption is void ab initio. Petitions to revoke the exemption under 49 U.S.C. 10502(d) may be filed at any time. The filing of a petition to revoke will not automatically stay the transaction.

An original and 10 copies of all pleadings, referring to STB Finance Docket No. 33998, must be filed with the Surface Transportation Board, Office of the Secretary, Case Control Unit, 1925 K Street, N.W., Washington, DC 20423-0001. In addition, a copy of each pleading must be served on Leonard J. LaCasse, 119 South Main Street, Ukiah, CA 95482.

Board decisions and notices are available on our website at “WWW.STB.DOT.GOV.”

Decided: January 30, 2001.
By the Board, David M. Konschnik, Director, Office of Proceedings.
Vernon A. Williams,
Secretary.

[FR Doc. 01-2960 Filed 2-5-01; 8:45 am]

BILLING CODE 4915-00-P